DEPARTMENT OF HOMELAND SECURITY

Coast Guard

[Docket No. USCG-2019-0035]

Towing Safety Advisory Committee

AGENCY: U.S. Coast Guard, Department of Homeland Security.

ACTION: Notice of Federal Advisory Committee meeting.

SUMMARY: The Towing Safety Advisory Committee and its subcommittees will meet in Miami, Florida, to review and discuss recommendations from its subcommittees and to receive briefs on items listed in the agenda. All meetings will be open to the public.

DATES: Meetings. The subcommittees of the Towing Safety Advisory Committee will meet on Wednesday, February 20, 2019, from 8 a.m. to 5 p.m. to conduct work-group sessions. The full Committee will meet on Thursday, February 21, 2019, from 8 a.m. to 5 p.m. These meetings may end early if the subcommittees or the Committee has completed its business, or the meetings may be extended based on the number of public comments.

Comments and supporting documentation. To ensure your comments are reviewed by Committee members before the meetings, submit your written comments no later than February 14, 2019.

ADDRESSES: All meetings will be held at the Hyatt Place Miami Airport West/Doral, 3655 NW 82nd Ave., Miami, Florida 33166; hotel website: www.hyattplacemiamiairportwest.com.

For information on facilities or services for individuals with disabilities, or to request special assistance at the meetings, contact the individuals listed in the FOR FURTHER INFORMATION CONTACT section as soon as possible.

Written comments must be submitted using the Federal eRulemaking Portal at http://www.regulations.gov. If you encounter technical difficulties when trying to submit comments, contact the individual listed in the FOR FURTHER INFORMATION CONTACT of this document.

Instructions: You are free to submit comments at any time, including orally at the meetings, but if you want Committee members to review your comment before the meetings, please submit your comments no later than February 14, 2019. We are particularly interested in comments on the issues in the “Agenda” section below. You must include “Department of Homeland Security” and the docket number USCG-2019-0035. For more information about the privacy and the docket, review the Privacy and Security Notice for the Federal Docket Management System at https://www.regulations.gov/privacyNotice.

Docket Search: For access to the docket or to read documents or comments related to this notice, go to http://www.regulations.gov, insert USCG-2019-0035 in the Search box, press Enter, and then click on the item you wish to view.

FOR FURTHER INFORMATION CONTACT: Mr. Douglas Scheffler, Alternate Designated Federal Officer of the Towing Safety Advisory Committee, Commandant (CG-OES-2), U.S. Coast Guard, 2703 Martin Luther King Jr. Avenue SE, Stop 7509, Washington, DC 20593-7509; telephone 202-372-1087, fax 202-372-8382 or email Douglas.W.Scheffler@uscg.mil.

SUPPLEMENTARY INFORMATION: Notice of this meeting is in compliance with the Federal Advisory Committee Act, Title 5 United States Code Appendix.

The Towing Safety Advisory Committee provides advice and recommendations to the Department of Homeland Security on matters relating to shallow-draft inland and coastal waterway navigation and towing safety. On December 4, 2018, the source of this stated purpose of the Committee, 33 U.S.C. 1231a, was repealed by the Frank Lobiondo Coast Guard Authorization Act of 2018 (PL 115-282, 132 Stat 4192) but section 601(d) of this Authorization Act allows the Towing Safety Advisory Committee to remain in force or in effect for a period of up to 2 years. Section 601(a) of the Authorization Act has established the National Towing Safety Advisory Committee, which has the same stated purpose and that will eventually replace the Towing Safety Advisory Committee.

Agenda of Meetings

On February 20 and 21, 2019, from 8 a.m. to 5 p.m., the Towing Safety Advisory Committee and its subcommittees will meet to review, discuss, deliberate, and formulate recommendations, as appropriate, on the following tasks:

• 46 Code of Federal Regulations Subchapter M Implementation (Task 16-01).

• Towing Liquefied Natural Gas Barges (Task 16-03).

• Load Line Exemption Review for River Barges on Lakes Erie and Ontario (Task 17-02).

All current Towing Safety Advisory Committee tasks can be found at https://homeport.uscg.mil/Lists/Content/DispForm.aspx?&ID=574&Source=https://homeport.uscg.mil/missions/ports-and-waterways/safety-advisory-committees/tsac/recommendations-reports.

A copy of all meeting documentation, including any draft final reports, will be available at https://homeport.uscg.mil/missions/ports-and-waterways/safety-advisory-committees/tsac/announcements no later than February 13, 2019. Alternatively, you may contact the individual listed in the FOR FURTHER INFORMATION CONTACT section above.

Public comments or questions will be taken throughout the meeting as the Committee discusses the issues and prior to deliberations and voting. There will also be a public comment period at the end of the meeting. Speakers are requested to limit their comments to 3 minutes. Please note that the public comment period may end before the period allotted, following the last call for comments. Please contact the individual listed in the FOR FURTHER INFORMATION CONTACT section above to register as a speaker.

Notices of Future 2019 Towing Safety Advisory Committee Meetings

To receive automatic email notices of future Towing Safety Advisory Committee meetings in 2019, go to the online docket, USCG-2019-0035 (http://www.regulations.gov/#!docketDetail;D=USCG-2019-0035), and select the Sign-up-for-Email-Alerts option. We plan to use the same docket number for all Towing Safety Advisory Committee meeting notices in 2019, so when the next meeting notice is published you will receive an email alert from http://www.regulations.gov when the notice appears in this docket, in addition to notices of other items being added to the docket.

Dated: January 29, 2019.
Jeffrey G. Lantz,
Director of Commercial Regulations and Standards.

[FR Doc. 2019-00860 Filed 2-1-19; 8:45 am]

BILLING CODE 9110-04-P